DEPARTMENT OF TRANSPORTATION

Federal Aviation Administration

14 CFR Part 39

[Docket No. FAA-2015-3941; Product Identifier 2015-SW-052-AD]

RIN 2120-AA64

Airworthiness Directives; Airbus Helicopters Deutschland GmbH Helicopters

AGENCY: Federal Aviation Administration (FAA), DOT.

ACTION: Supplemental notice of proposed rulemaking (SNPRM); reopening of comment period.

SUMMARY: The FAA is revising an earlier proposal for Airbus Helicopters Deutschland GmbH (Airbus Helicopters) Model MBB-BK 117A-3, MBB-BK 117A-4, MBB-BK 117B-1, MBB-BK 117B-2, and MBB-BK 117C-1 helicopters. This action revises the notice of proposed rulemaking (NPRM) by expanding the applicability and proposing to add requirements to replace certain seals with newly certified seals and revise the Rotorcraft Flight Manual (RFM) for your helicopter. The FAA is proposing this airworthiness directive (AD) to address the unsafe condition on these products. Since these actions would impose an additional burden over those in the NPRM, the FAA is reopening the comment period to allow the public the chance to comment on these changes.

DATES: The comment period for the NPRM published in the Federal Register on May 5, 2016 (81 FR 27057), is reopened.

The FAA must receive comments on this SNPRM by June 12, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to the “Mail” address between 9 a.m. and 5 p.m., Monday through Friday, except Federal holidays.

Examining the AD Docket

You may examine the AD docket on the internet at https://www.regulations.gov by searching for and locating Docket No. FAA-2015-3941; or in person at Docket Operations between 9 a.m. and 5 p.m., Monday through Friday, except Federal holidays. The AD docket contains this SNPRM, the European Union Aviation Safety Agency (previously European Aviation Safety Agency) (EASA) AD, any comments received, and other information. The street address for Docket Operations is listed above. Comments will be available in the AD docket shortly after receipt.

For service information identified in this SNPRM, contact Airbus Helicopters, 2701 N. Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone 817-222-5110; email matthew.fuller@faa.gov.

SUPPLEMENTARY INFORMATION:

Comments Invited

The FAA invites you to send any written relevant data, views, or arguments about this proposal. Send your comments to an address listed under the ADDRESSES section. Include “Docket No. FAA-2015-3941; Product Identifier 2015-SW-052-AD” at the beginning of your comments. The FAA specifically invites comments on the overall regulatory, economic, environmental, and energy aspects of this SNPRM. The FAA will consider all comments received by the closing date and may amend this SNPRM based on those comments.

The FAA will post all comments received, without change, to https://www.regulations.gov, including any personal information you provide. The FAA will also post a report summarizing each substantive verbal contact received about this SNPRM.

Discussion

The FAA issued an NPRM to amend 14 CFR part 39 by adding an AD that would apply to Airbus Helicopters Model MBB-BK 117A-3, MBB-BK 117A-4, MBB-BK 117B-1, MBB-BK 117B-2, and MBB-BK 117C-1 helicopters with adhesive seal part number (P/N) 117-800201.01 installed on an exterior or interior sliding door. The NPRM published in the Federal Register on May 5, 2016 (81 FR 27057). The NPRM was prompted by reports that the adhesive seal prevented the doors from jettisoning properly. The NPRM proposed to require removing this part-numbered adhesive seal from the exterior and interior of each sliding door. The NPRM also proposed to prohibit the installation of this part-numbered adhesive seal on any helicopter sliding door.

EASA, which is the aviation authority for the Member States of the European Union, had issued EASA AD No. 2015-0163, dated August 6, 2015 (EASA AD 2015-0163), to correct an unsafe condition for Airbus Helicopters Model MBB-BK 117A-3, MBB-BK 117A-4, MBB-BK 117B-1, MBB-BK 117B-2, and MBB-BK 117C-1 helicopters. EASA advised that difficulties were reported regarding the jettisoning of doors. The malfunction was caused by the adhesive seal, which hampered the free movement of the inner handle. According to EASA, a subsequent investigation showed that the adhesive seal has mechanical and physical properties that do not meet relevant certification requirements. EASA stated that this condition, if not detected and corrected, could lead to a malfunction of the door's jettisoning mechanism, reducing or preventing the evacuation of the helicopter during an emergency, possibly resulting in injury to occupants. To address this condition, EASA AD 2015-0163 required inspecting the exterior and interior door jettisoning system on the left and right sliding doors for adhesive seal P/N 117-800201.01 and removing those adhesive seals.

Actions Since the NPRM Was Issued

Since the FAA issued the NPRM, a new adhesive seal P/N has become available and the related service information has been revised to provide installation instructions for this new seal and instruction to use a revised flight manual with preflight check information for the new seal. EASA also revised its AD to EASA AD No. 2015-0163R1, dated April 27, 2016, to include a reference to the installation of the new adhesive seals.

Accordingly, this SNPRM expands the applicability to include all Airbus Helicopters Model MBB-BK 117A-3, MBB-BK 117A-4, MBB-BK 117B-1, MBB-BK 117B-2, and MBB-BK 117C-1 helicopters and proposes to require installation of the new adhesive seals and revise the RFM for your helicopter.

Additionally, since the NPRM was issued, the website address for Airbus Helicopters has changed. This website address has been updated in this SNPRM. Lastly, since the NPRM was issued, the FAA's Aircraft Certification Service has changed its organization structure. The new structure replaces product directorates with functional divisions. The FAA has revised some of the office titles and nomenclature throughout this proposed AD to reflect the new organizational changes. Information about the new structure can be found in the Notice published on July 25, 2017 (82 FR 34564).

Comments

The FAA gave the public the opportunity to participate in developing this proposed AD. The FAA received no comments on the NPRM or on the determination of the cost to the public.

FAA's Determination

The FAA is proposing this SNPRM after evaluating all known relevant information and determining that an unsafe condition is likely to exist or develop on other helicopters of these same type designs. Certain changes described above expand the scope of the original NPRM. As a result, the FAA has determined that it is necessary to reopen the comment period to provide additional opportunity for the public to comment on this SNPRM.

Related Service Information Under 1 CFR Part 51

The FAA reviewed Airbus Helicopters Deutschland GmbH Helicopters Alert Service Bulletin MBB-BK117-20A-114, Revision 2, dated March 30, 2016, for Model MBB-BK 117A-3, MBB-BK 117A-4, MBB-BK 117B-1, MBB-BK 117B-2, and MBB-BK 117C-1 helicopters. This service information describes procedures for cleaning and degreasing the seal installation areas and installing adhesive seal P/N 117-800201.02. This service information also specifies flight manual revisions with preflight check information for this new seal.

The FAA reviewed MBB Helicopters Flight Manual MBB-BK117 A-3, Revision 17.1, MBB Helicopters Flight Manual MBB-BK117 A-4, Revision 16.1, MBB Helicopters Flight Manual MBB-BK117 B-1, Revision 20.1, Eurocopter Flight Manual BK117 B-2, Revision 21.2, and Eurocopter Flight Manual BK117 C-1, Revision 30.1, each dated March 25, 2015. This revision of the service information adds preflight check procedures for “Jettisonable sliding door installed, after ASB-BK117-20A-114” in the Normal Procedures section, Preflight Exterior Check, under both “Fuselage—right side” and “Fuselage—left side” of the RFM for your helicopter.

This service information is reasonably available because the interested parties have access to it through their normal course of business or by the means identified in the ADDRESSES section.

Proposed Requirements of the SNPRM

If adhesive seal P/N 117-800201.01 is installed, this proposed AD would require, within 25 hours time-in-service, removing each adhesive seal from the interior and exterior of each sliding door. For all helicopters, this proposed AD would require cleaning and degreasing the seal installation areas and installing adhesive seal P/N 117-800201.02. This proposed AD would also require revising the Normal Procedures section, Preflight Exterior Check, under both “Fuselage—right side” and “Fuselage—left side” of the RFM for your helicopter to check the condition of the exterior and interior seals.

This proposed AD would also prohibit the installation of adhesive seal P/N 117-800201.01 on any helicopter sliding door.

Differences Between This SNPRM and the EASA AD

The EASA AD does not mandate the installation of the new adhesive seals, whereas this proposed AD would. Model MBB-BK 117 B-2 serial number 7203 is affected by the EASA AD, but it is not affected by this SNPRM because it is ineligible for U.S. registration.

Costs of Compliance

The FAA estimates that this proposed AD affects 45 helicopters of U.S. registry. Labor costs are estimated at $85 per work-hour. Based on these numbers, the FAA estimates the following costs to comply with this proposed AD.

If installed, removing adhesive seals P/N 117-800201.01 would take about 0.5 work-hour for an estimated cost of about $43 per helicopter. Installing new seals and revising the RFM for your helicopter would take about 1 work-hour and a set of new seals (4 units) would cost about $5 for an estimated cost of $90 per helicopter and $4,050 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH: Docket No. FAA-2015-3941; Product Identifier 2015-SW-052-AD.

(a) Applicability

This AD applies to Airbus Helicopters Deutschland GmbH Model MBB-BK 117A-3, MBB-BK 117A-4, MBB-BK 117B-1, MBB-BK 117B-2, and MBB-BK 117C-1 helicopters, certificated in any category.

(b) Unsafe Condition

This AD defines the unsafe condition as the presence of sealant on a sliding door (door). This condition could result in the door failing to jettison, preventing helicopter occupants from exiting the helicopter during an emergency.

(c) Comments Due Date

The FAA must receive comments by June 12, 2020.

(d) Compliance

You are responsible for performing each action required by this AD within the specified compliance time unless it has already been accomplished prior to that time.

(e) Required Actions

(1) Within 25 hours time-in-service after the effective date of this AD:

(i) For helicopters with adhesive seal part number (P/N) 117-800201.01 installed on an exterior or interior door, remove adhesive seal P/N 117-800201.01 from the interior and exterior of each door, remove any adhesive using solvent (CM 202 or equivalent) and remove any grease using methyl ethyl ketone (CM 217 or equivalent), and install adhesive seal P/N 117-800201.02. Refer to Figures 1 through 4 of Airbus Helicopters Alert Service Bulletin MBB-BK117-20A-114, Revision 2, dated March 30, 2016 (ASB MBB-BK117-20A-114) for a depiction of the seal installation areas.

(ii) For helicopters without adhesive seal P/N 117-800201.01 installed, clean the seal installation areas using solvent (CM 202 or equivalent), remove any grease using methyl ethyl ketone (CM 217 or equivalent), and install adhesive seal P/N 117-800201.02. Refer to Figures 1 through 4 of ASB MBB-BK117-20A-114 for a depiction of the seal installation areas.

(iii) Revise the Normal Procedures section, Preflight Exterior Check, under both “Fuselage—right side” and “Fuselage—left side” of the Rotorcraft Flight Manual for your helicopter by adding the information in Figure 1 to paragraph (e)(1)(iii) of this AD or by adding the information for “Jettisonable sliding door installed, after ASB-BK117-20A-114” of the following as applicable for your helicopter: MBB Helicopters Flight Manual MBB-BK117 A-3, Revision 17.1, MBB Helicopters Flight Manual MBB-BK117 A-4, Revision 16.1, MBB Helicopters Flight Manual MBB-BK117 B-1, Revision 20.1, Eurocopter Flight Manual BK117 B-2, Revision 21.2, or Eurocopter Flight Manual BK117 C-1, Revision 30.1, each dated March 25, 2015. Using a different document with information identical to the information for the “Jettisonable sliding door installed, after ASB-BK117-20A-114” procedures in the Flight Manual revision specified in this paragraph for your helicopter is acceptable for compliance with the requirements of this paragraph. This action may be performed by the owner/operator (pilot) holding at least a private pilot certificate and must be entered into the aircraft records showing compliance with this AD in accordance with § 43.9(a)(1) through (4) and § 91.417(a)(2)(v). The record must be maintained as required by § 91.417, § 121.380, or § 135.439.

(2) After the effective date of this AD, do not install adhesive seal P/N 117-800201.01 on any helicopter door.

(f) Alternative Methods of Compliance (AMOCs)

(1) The Manager, Safety Management Group, FAA, may approve AMOCs for this AD. Send your proposal to: Matt Fuller, Senior Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

(1) For service information related to this AD, contact Airbus Helicopters, 2701 N. Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy, Room 6N-321, Fort Worth, TX 76177.

(2) The subject of this AD is addressed in European Union Aviation Safety Agency (previously European Aviation Safety Agency) (EASA) AD No. 2015-0163R1, dated April 27, 2016. You may view the EASA AD on the internet at https://www.regulations.gov in Docket No. FAA-2015-3941.

(h) Subject

Joint Aircraft Service Component (JASC) Code: 5220, Emergency Exits.

Issued on April 22, 2020.
Gaetano A. Sciortino,
Deputy Director for Strategic Initiatives, Compliance & Airworthiness Division, Aircraft Certification Service.

[FR Doc. 2020-08902 Filed 4-27-20; 8:45 am]

BILLING CODE 4910-13-P